DEPARTMENT OF COMMERCE

International Trade Administration

Penn State University

Notice of Decision on Application for Duty-Free Entry of Scientific Instruments

This is a decision pursuant to Section 6(c) of the Educational, Scientific, and Cultural Materials Importation Act of 1966 (Pub. L. 89-651, as amended by Pub. L.106-36; 80 Stat. 897; 15 CFR part 301). Related records can be viewed between 8:30 A.M. and 5:00 P.M. in Room 2104, U.S. Department of Commerce, 14th and Constitution Ave, NW, Washington, D.C.

Comments: None received. Decision: Approved. We know of no instrument of equivalent scientific value to the foreign instruments described below, for such purposes as each is intended to be used, that was being manufactured in the United States at the time of its order.

Docket Number: 07-040. Applicant: Penn State University, 311 Deike Building, University Park, PA 16802. Instrument: Distributed Temperature Sensor, model Sentinel DTS-SR(0-5KM). Manufacturer: Sensornet Ltd., United Kingdom. Intended Use: See notice at 72 FR 59076, October 18, 2007. Reason: Good temperature resolution and the capability to collect data every minute to 0.1° C. accuracy are essential for the study that involves the determination of stream-aquifer interaction as related to precipitation events, and the detection of areas that build and release moisture along the hillslope.

Dated: November 8, 2007.
Faye Robinson,
Director Statutory Import Programs Staff Import Administration.

[FR Doc. E7-22469 Filed 11-15-07; 8:45 am]

BILLING CODE 3510-DS-S